DEPARTMENT OF AGRICULTURE

National Agricultural Statistics Service

Notice of the Advisory Committee on Agriculture Statistics Meeting

AGENCY: National Agricultural Statistics Service, USDA.

ACTION: Notice of meeting.

SUMMARY: In accordance with the Federal Advisory Committee Act, the National Agricultural Statistics Service (NASS) announces a meeting of the Advisory Committee on Agriculture Statistics.

DATES: The Committee meeting will be held from 1 p.m. to 4:30 p.m. on Wednesday, May 2, 2007, and from 8 a.m. to 4:30 p.m. on Thursday, May 3, 2007. There will be an opportunity for public questions and comments at 1:40 p.m. on May 3, 2007.

ADDRESSES: The Committee meeting will take place at the Hyatt Regency Crystal City Hotel at Reagan National Airport, 2799 Jefferson Davis Highway, Arlington, Virginia 22202. Written comments may be filed before or within a reasonable time after the meeting with the contact person identified herein at: U.S. Department of Agriculture, National Agricultural Statistics Service, 1400 Independence Avenue, SW., Room 5041A, South Building, Washington, DC 20250-2000.

FOR FURTHER INFORMATION CONTACT: Joe Reilly, Executive Director, Advisory Committee on Agriculture Statistics, Telephone: 202-720-4333, Fax: 202-720-9013, or e-mail: jreilly@nass.usda.gov.

SUPPLEMENTARY INFORMATION: The Advisory Committee on Agriculture Statistics, which consists of 25 members appointed from 7 categories covering a broad range of agricultural disciplines and interests, has scheduled a meeting on May 2-3, 2007. During this time the Advisory Committee will discuss topics including Plans for the 2007 Census of Agriculture, Subcommittee reports on Energy, and Equine, Census Follow-on Surveys, Data User Access on Data Enclave and Data Lab's, and Annual Program Priorities.

The Committee meeting is open to the public. The public may file written comments to the USDA Advisory Committee contact person before or within a reasonable time after the meeting. All statements will become a part of the official records of the USDA Advisory Committee on Agriculture Statistics and will be kept on file for public review in the office of the Executive Director, Advisory Committee on Agriculture Statistics, U.S. Department of Agriculture, Washington, DC 20250.

Dated April 11, 2007, at Washington, DC.
R. Ronald Bosecker,
Administrator, National Agricultural Statistics Service.

[FR Doc. E7-8368 Filed 5-1-07; 8:45 am]

BILLING CODE 3410-20-P